UNITED STATES INSTITUTE OF PEACE

Announcement of the Spring 2004 Solicited Grant Competition; Grant Program

AGENCY: United States Institute of Peace.

ACTION: Notice.

SUMMARY: The Agency Announces its Upcoming Spring 2004 Solicited Grant Competition. The Solicited Grant competition is restricted to projects that fit specific themes and topics identified in advance by the Institute of Peace.

The themes and topics for the Spring 2004 Solicited competition are:

• Solicitation A: The Proliferation of Weapons of Mass Destruction

• Solicitation B: Bridging the Divides: Improving Relations With, and Within, the Muslim World

Deadline: March 1, 2004.

Application material Available on Request.

Notification Date: September 31, 2004.

ADDRESSES: For more information and an application package: United States Institute of Peace, Grant Program, Solicited Grants, 1200 17th Street, NW., Suite 200, Washington, DC 20036-3011, (202) 429-3842 (phone), (202) 833-1018 (fax), (202) 457-1719 (TTY), E-mail: grants@usip.org.

Application material available on-line: http://www.usip.org/grants.

FOR FURTHER INFORMATION CONTACT: The Grant Program, Phone (202) 429-3842, E-mail: grants@usip.org.

Dated: November 18, 2003.
Bernie J. Carney,
Director Office of Administration.

[FR Doc. 03-29198 Filed 11-21-03; 8:45 am]

BILLING CODE 6820-AR-M